DEPARTMENT OF THE INTERIOR

Bureau of Land Management

[15X L1109AF LLUTW01100 L12320000.FU0000 LVRDUT240000 24 1A]

Notice of Intent To Collect Fees on Public Land in Tooele and Rich Counties, UT

AGENCY: Bureau of Land Management, Interior.

ACTION: Notice of intent.

SUMMARY: Pursuant to applicable provisions of the Federal Lands Recreation Enhancement Act (REA), the Salt Lake Field Office of the Bureau of Land Management (BLM) is proposing to begin collecting fees for overnight camping within two developed campgrounds.

DATES: Effective six months after the publication of this notice, the BLM-Utah, Salt Lake Field Office would initiate fee collection at the Simpson Springs Campground Group Site and at the Little Creek Campground for both single occupancy campsites and group sites, unless the BLM publishes a Federal Register notice to the contrary.

FOR FURTHER INFORMATION CONTACT: Ray Kelsey, Outdoor Recreation Planner, BLM-Salt Lake Field Office, 2370 South Decker Lake Blvd., West Valley City, Utah 84119, Phone: 801-977-4333, Email: rkelsey@blm.gov. Persons who use a telecommunications device for the deaf (TDD) may call the Federal Information Relay Service (FIRS) at 1-800-877-8339 to leave a message or question for the above individual. The FIRS is available 24 hours a day, 7 days a week. Replies are provided during normal business hours.

SUPPLEMENTARY INFORMATION: The Utah Resource Advisory Council (RAC), functioning as a Recreation Resource Advisory Committee (RRAC), will review the proposal to charge fees at the two campgrounds. Future adjustments in the fee amount will be made in accordance with the Salt Lake Field Office's publicly-reviewed recreation fee business plan covering the campgrounds. Fee adjustments will be made after consultation with the Utah RRAC and general public support for the proposed fees are documented in conformance with section 6803(c) of the REA.

The two developed camping areas discussed in this notice are: Simpson Springs Campground (T. 9 S., R. 8 W, Sec. 18, SLM) and the Little Creek Campground (T. 11 N., R. 6 E., Sec. 24, SLM). Under section 6802(g)(2) of the REA, the campgrounds listed above qualify as sites wherein visitors can be charged an “Expanded Amenity Recreation Fee.”

Visitors wishing to use the expanded amenities the BLM has developed at Simpson Springs and Little Creek Campgrounds would purchase a Recreation Use Permit as described at 43 CFR 2933. Pursuant to REA and implementing regulations at 43 CFR 2933, fees may be charged for overnight camping and group use reservations where specific amenities and services are provided. Specific visitor fees will be identified and posted at the developed campgrounds. Fees for individual sites at Little Creek Campground must be paid at the self-service pay station located at the camping areas. Fees for the Simpson Springs and Little Creek group sites must be paid for in advance with the Salt Lake Field Office. People holding the “America the Beautiful—The National Parks and Federal Recreational Lands Senior Pass” or an Annual Access Pass would be entitled to a 50 percent discount on all expanded amenity fees except those associated with group reservations. Fees charged for use of the group sites would include a non-refundable site reservation fee.

The Simpson Springs Campground is located within the Pony Express Special Recreation Management Area (SRMA). Individual campsite fees have been charged at Simpson Springs for several decades, but a group camping site has not been established until now. Simpson Springs Campground offers a public water system, a toilet, an access road, regular patrols, fire rings, tent spaces, and picnic tables.

The Little Creek Campground has existed with individual sites and a group picnic pavilion since the mid-1990s, but BLM has not proposed fees at this location until now. Little Creek Campground offers a public water system, a toilet, an access road, regular patrols, fire rings, tent spaces, refuse containers, and picnic tables.

The BLM is committed to providing and receiving fair market value for the use of developed recreation facilities and services in a manner that meets public use demands, provides quality experiences and protects important resources. The BLM's policy is to collect fees at all specialized recreation sites, or where the BLM provides facilities, equipment or services at Federal expense, in connection with outdoor use as authorized by REA. In an effort to meet increasing demands for services and increased maintenance of developed facilities, the BLM would implement a fee program for the campgrounds. The BLM's mission for the campgrounds is to ensure that funding is available to maintain facilities and recreational opportunities, to provide for law enforcement presence, and to protect public health and safety and public land resources. This mission entails communication with those who will be most directly affected by the campgrounds such as recreationists, other recreation providers, partners, neighbors, elected officials, and other agencies.

Camping and group use fees would be consistent with other established fee sites in the area including other BLM-administered sites and those managed by the United States Forest Service, National Park Service, and Utah State Parks and Recreation. Future adjustments in the fee amount will be made following the Salt Lake Field Office's recreation fee business plan covering the sites, in consultation with the Utah RRAC and other public stakeholders prior to a fee adjustment.

In December 2004, the REA was signed into law. The REA provides authority for the Secretaries of the Interior and Agriculture to establish, modify, charge, and collect recreation fees for the use of some Federal recreation lands and waters, and contains specific provisions addressing public involvement in the establishment of recreation fees, including a requirement that RRACs or Councils have the opportunity to make recommendations regarding establishment of such fees. The REA also directed the Secretaries of the Interior and Agriculture to publish advance notice in the Federal Register whenever new recreation fee areas are established under their respective jurisdictions. In accordance with the BLM recreation fee program policy, the Salt Lake Field Office's draft Business Plan for Salt Lake Field Office Campgrounds explains the proposal to collect fees at the two campgrounds, the fee collection process, and how the fees will be used at the two campgrounds. The BLM provided the public an opportunity to comment on the draft Business Plan for Salt Lake Field Office Campgrounds from November 10, 2014 through January 12, 2015. The Utah RRAC will review the fee proposals at its next meeting, following REA guidelines. Fee amounts will be posted on-site, on the BLM-Salt Lake Field Office Web site and at the Salt Lake Field Office.

Copies of the business plan will be available at Salt Lake Field Office and the BLM-Utah State Office.

Authority: 16 U.S.C. 6803(b).

Jenna Whitlock,
Acting State Director.

[FR Doc. 2015-15793 Filed 6-26-15; 8:45 am]

BILLING CODE 4310-DQ-P